DEPARTMENT OF AGRICULTURE

Submission for OMB Review; Comment Request

January 3, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), Washington, DC, OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Qualified Product List for Wild Land Fire Chemicals.

OMB Control Number: 0596-0182.

Summary of Collection: The Forest Service (FS) objective is, “To have available and utilize adequate types and quantities of qualified fire chemical products to accomplish fire management activities safely, efficiently, and effectively.” To accomplish their objective, FS evaluates chemical products that may be used in direct wildland fire suppression operations prior to their use on lands managed by the FS. Safe products do not include ingredients that create an enhanced risk, in typical use, to either the firefighters involved or the public in general.

Need and Use of the Information: FS will collect the listing of individual ingredients and quantity of these ingredients in the formulation of a product being submitted for evaluation in order to test the products using various Technical Data Sheets and other forms. The entity submitting the information provides the FS with the specific ingredients used in its product and identifies the specific source of supply for each ingredient. The information collected is specific mixing requirements and hydration requirements of gum-thickened retardants. The information provided will allow the FS to search the List of Known and Suspected Carcinogens, as well as the Environment Protection Agency's List of Highly Hazardous Materials, to determine if any of the ingredients appear on any of these lists. Without the information FS would not be able to assess the safety of the wildland fire chemicals utilized on FS managed land, since the specific ingredients and the quantity of each ingredients used in a formulation would not be known.

Note: Forest Service is merging burden and forms from 0596-0183 “Qualified Products List for Class A foams for Wild land Firefighting” and 0596-0184 “Qualified Products List for Long-Term Retardants for Wild Land Firefighting” into the renewal of this collection.

Description of Respondents: Business or other for-profit.

Number of Respondents: 5.

Frequency of Responses: Reporting: Other (once).

Total Burden Hours: 39.

Charlene Parker,
Departmental Information Collection Clearance Officer.

[FR Doc. 2012-89 Filed 1-6-12; 8:45 am]

BILLING CODE 3410-11-P